DEPARTMENT OF THE INTERIOR

Bureau of Indian Affairs

[212A2100DD/AAKC001030/A0A501010.999900253G]

Indian Gaming; Approval of Tribal-State Class III Gaming Compact Amendments in the State of Washington

AGENCY: Bureau of Indian Affairs, Interior.

ACTION: Notice.

SUMMARY: This notice publishes the approval of the Fourth Amendment to the Tribal-State Compact (Fourth Amendment) for Class III Gaming between the Suquamish Tribe (Tribe) and the State of Washington (State), and the Fifth Amendment to the Tribal-State Compact (Fifth Amendment) for Class III Gaming between the Suquamish Tribe and the State of Washington.

DATES: The amendment takes effect on September 1, 2021.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior must publish in the Federal Register notice of approved Tribal-State compacts for the purpose of engaging in Class III gaming activities on Indian lands. As required by 25 CFR 293.4, all compacts and amendments are subject to review and approval by the Secretary. The Fourth Amendment authorizes the Tribe to operate sports wagering at the Tribe's class III gaming facilities, updates the Compact to reflect this change in various sections, and incorporates Appendix S, Sports Wagering. The Fifth Amendment revises the definition section, allows for a second gaming facility, updates licensing and registration requirements, and adopts Appendix E, Limitation on Wagers, Credit Facilities, Problem Gambling Resources and Contributions. The Fourth and Fifth Amendments are approved.

Bryan Newland,
Assistant Secretary—Indian Affairs.

[FR Doc. 2021-18823 Filed 8-31-21; 8:45 am]

BILLING CODE 4337-15-P